DEPARTMENT OF AGRICULTURE

National Agricultural Statistics Service

Notice of Intent To Seek Approval to Conduct an Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intent of the National Agricultural Statistics Service (NASS) to request approval for an information collection, the Women on U.S. Farms Survey.

DATES: Comments on this notice must be received by June 8, 2000 to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: Title: Women on U.S. Farms Survey.

Type of Request: Intent to Seek Approval to Conduct an Information Collection.

Abstract: The goal of this National Agricultural Statistics Service and Penn State University co-operative project is to expand the knowledge base concerning the participation of women in U.S. agriculture. This knowledge will be useful for formulating policy related to agriculture and rural development and will also be helpful for social and economic researchers interested in farming and agriculture. Farm women have been found to contribute substantially to agricultural production through their involvement in farm work, farm decisions, and agricultural organizations. The U.S. Census of Agriculture, the major source of data about agricultural production and farm operators in the United States, undercounts women's involvement in farm enterprises because only one operator per farm is counted. In addition, no national-level study has sought information about women's participation in agriculture since 1980. We have only limited information about how changes in agriculture and farming have affected women's work on farms and their participation in decisions related to farming. The findings from the proposed study will provide information for developing government policies that can more effectively serve women as well as men who live and work on farms. Policies and programs that lower structural barriers and increase opportunities for women can improve the economic viability of U.S. farms.

The project addresses the following objectives: (1) To analyze the nature and extent of women's participation in farm operations in the U.S. today, including their participation in farm tasks, farm decision-making, farm organizations, and government agriculture programs; to ascertain the variation in such involvement by region, type of farm, and the socio-demographic characteristics of the women themselves; and to describe changes that have occurred in the last 20 years. (2) To assess the current participation of women on U.S. farms in nonfarm work, including the type and extent of off-farm employment, nonfarm self-employment, and involvement in the informal economy and changes in nonfarm work patterns since 1980.

The sample is 5,000 farms operated as sole proprietorships, partnerships, or family corporations. The respondent will be the farm operator, if a woman, or the wife of the male farm operator at each of the selected farms. While it is anticipated that the overwhelming majority of farm operators will be men, most are expected to have spouses present in the household. The projected usable sample of farm women is thus approximately 4,000 cases. In addition, 500 farm men will be interviewed to compare the work of farm men and women and to identify differences in men's and women's perceptions of women's involvement in the farm enterprise. The men who will be interviewed will be spouses or partners of 500 of the farm women who are interviewed in the study. All interviews will be conducted using a computer-assisted telephone interviewing system, which provides for quality control monitoring of interviews, managing call scheduling and call-backs, automatic record keeping, question presentation, and response recording. Approximately two weeks prior to the beginning of the interviews, letters will be sent to the sample members explaining the purpose of the study and alerting them to the coming call.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Test interviews indicated that the women's interview will require approximately 28 minutes and the men's approximately 20 minutes. There will be a pre-survey letter mailed to all 5,000 in the sample.

Respondents: Female and male farm operators.

Estimated Number of Respondents: 4,000 women and 500 men.

Estimated Total Annual Burden on Respondents: 2,400 hours.

Copies of this information collection and related instructions can be obtained without charge from Ginny McBride, Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, D.C. 20250-2000. All responses to this notice will become a matter of public record and be included in the request for OMB approval.

Signed at Washington, D.C., March 6, 2000.
Rich Allen,
Associate Administrator.

[FR Doc. 00-8248 Filed 4-3-00; 8:45 am]

BILLING CODE 3410-20-P